DEPARTMENT OF HEALTH AND HUMAN SERVICES

Administration for Children and Families

Submission for OMB Review; SOAR (Stop, Observe, Ask, Respond) to Health and Wellness Training (SOAR) Demonstration Grant Program Data (NEW COLLECTION)

AGENCY: Office on Trafficking in Persons, Administration for Children and Families, Department of Health and Human Services.

ACTION: Request for public comments.

SUMMARY: The Office on Trafficking in Persons (OTIP), Administration for Children and Families (ACF), U.S. Department of Health and Human Services (HHS), is proposing to collect data for a new grant program: SOAR (Stop, Observe, Ask, Respond) to Health and Wellness Training (SOAR) Demonstration Grant Program Data.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: The SOAR Demonstration Grant Program was developed in response to the Trafficking Victims Protection Act (TVPA) of 2000 (Pub. L. 106-386), § 106(b), as amended (22 U.S.C. 7104(b)(1)) and 22 U.S.C. 7105(b)(1)(B), which calls on agencies to “increase public awareness of the dangers of trafficking and the protections that are available for victims of trafficking” and provide “services to assist potential victims of severe forms of trafficking in persons.” The program's goal is to fund the implementation of SOAR trainings and capacity building efforts to identify, treat, and respond to patients or clients who have experienced severe forms of human trafficking as defined by the TVPA of 2000, as amended, among their patient or client population. SOAR is a nationally recognized, accredited training program delivered by OTIP's National Human Trafficking Training and Technical Assistance Center (NHTTAC) and designed to help target audiences identify and respond to those who are at risk of, are currently experiencing, or have experienced trafficking and connect them with needed resources. OTIP proposes to collect information to measure grant project performance, provide technical assistance to grant recipients, assess program outcomes, inform program evaluation, respond to congressional inquiries and mandated reports, and inform policy and program development that is responsive to the needs of victims.

The information collection will capture information on organizations enrolled in each grant recipient's multidisciplinary network of providers serving individuals who have experienced, or are at-risk of experiencing, a severe form of trafficking in persons, and clients served. Data elements are designed to capture information about organizational providers (e.g., number of individuals trained to identify and respond to trafficking, types and number of trainings offered, types of services provided, number of clients enrolled in services, organizational barriers to service delivery and implementation, and total funds spent by category of assistance) and client demographics (e.g., total number of clients enrolled in services by providers within the recipient's multidisciplinary network by client age, sex, gender identity, sexual orientation, race/ethnicity, and language spoken).

Respondents: Healthcare, behavioral health, and social service delivery professionals.

Annual Burden Estimates: Recipients will be awarded funding for a 5-year period. This request is for the first 3 years of data collection. We will request an extension to continue data collection beyond 3 years.

Instrument | Total number of respondents | Total number of responses per respondent | Average burden hours per response | Total burden hours | Annual burden hours
Provider Capacity Building Indicators | 75 | 4 | 1 | 300 | 100
SOAR Demonstration Grant Participant Training Form | 4,500 | 1 | 0.75 | 3,000 | 1,125
Client Demographics Indicators | 2,000 | 4 | 1 | 8,000 | 2,667
Human Trafficking Response Protocol (HTRP) Indicators | 75 | 4 | 2.5 | 750 | 250
Multidisciplinary Network Provider Indicators | 75 | 4 | 0.5 | 150 | 50
Categories of Assistance Form | 75 | 1 | 2.5 | 188 | 63

Estimated Total Annual Burden Hours: 4,255.

(Authority: 22 U.S.C. 7104)

John M. Sweet, Jr.
ACF/OPRE Certifying Officer.

[FR Doc. 2023-05706 Filed 3-20-23; 8:45 am]

BILLING CODE 4184-47-P